FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 15, 2016.

A. Federal Reserve Bank of Chicago (Colette A. Fried, Assistant Vice President) 230 South LaSalle Street, Chicago, Illinois 60690-1414:

1. Blair M. Bowman, Brighton, Michigan, and Peter D. Scodeller, Beverly Hills, Michigan, together as a group acting in concert; to acquire additional voting shares of Huron Valley Bancorp, Inc. and thereby indirectly acquire Huron Valley State Bank, both of Milford, Michigan.

B. Federal Reserve Bank of Kansas City (Dennis Denney, Assistant Vice President) 1 Memorial Drive, Kansas City, Missouri 64198-0001:

1. The Judy Svajgr Trust dated June 24, 1983, Cozad, Nebraska, the Judy Svajgr Trust dated March 20, 1997, Cozad, Nebraska, and Kirk Randal Riley, Cozad, Nebraska, individually and as voting representative of the foregoing trusts; to acquire voting shares of Midwest Banco Corporation, and thereby indirectly acquire voting shares of First Bank and Trust Company, both of Cozad Nebraska. In addition, the Rebecca Akers Irrevocable Trust, Cozad, Nebraska, the Kevin Olson Irrevocable Trust, Cozad, Nebraska, the Keith Olson 2016 Irrevocable Family Trust, Colorado Springs, Colorado, along with Rebecca Anne Akers, Monument, Colorado, Kevin Edward Olson, Colorado Springs, Colorado, and Steven K. Mulliken, Colorado Springs, Colorado, request approval as members of the Olson/Svajgr group acting in concert to control Midwest Banco Corporation, and thereby own shares of First Bank and Trust Company, Cozad, Nebraska.

Board of Governors of the Federal Reserve System, October 26, 2016.
Yao-Chin Chao,
Assistant Secretary of the Board.

[FR Doc. 2016-26223 Filed 10-28-16; 8:45 am]

BILLING CODE 6210-01-P